DEPARTMENT OF COMMERCE

National Oceanic and Atmospheric Administration

RIN 0648-XE11

North Pacific Fishery Management Council; Public Meeting

AGENCY: National Marine Fisheries Service (NMFS), National Oceanic and Atmospheric Administration (NOAA), Commerce.

ACTION: Notice of a public meeting.

SUMMARY: The North Pacific Fishery Management Council's (Council) Crab Committee will meet December 17-18, 2007, in Anchorage, AK.

DATES: The meeting will be held on December 17, from 8:30 a.m. to 5 p.m., and on December 18, from 8:30 a.m. until 12 noon.

ADDRESSES: The meeting will be held at the Hilton Hotel, Iliamna Room, 500 West 3rd Avenue, Anchorage, AK.

Council address: North Pacific Fishery Management Council, 605 W. 4th Ave., Suite 306, Anchorage, AK 99501-2252.

FOR FURTHER INFORMATION CONTACT: Mark Fina, North Pacific Fishery Management Council, telephone: (907) 271-2809.

SUPPLEMENTARY INFORMATION: The Committee will focus on programmatic issues and the effects of policy decisions related to the Bering Sea Aleutian Island crab rationalization program. The Committee will also discuss potential solutions to concerns that may arise from any adjustments to the A share/B share split, including compensation to processors from harvesters for lost economic opportunity from a shift in market power, change in landing distribution, the remaining need and necessary changes to the binding arbitration program, use and effectiveness of regional landing requirements to protect communities, and respective impacts on crew; potential solutions to existing data needs, including the need for exvessel prices, by share type and region, and first wholesale price information.

Although non-emergency issues not contained in this agenda may come before this group for discussion, those issues may not be the subject of formal action during this meeting. Action will be restricted to those issues specifically identified in this notice and any issues arising after publication of this notice that require emergency action under section 305(c) of the Magnuson-Stevens Fishery Conservation and Management Act, provided the public has been notified of the Council's intent to take final action to address the emergency.

Special Accommodations

This meeting is physically accessible to people with disabilities. Requests for sign language interpretation or other auxiliary aids should be directed to Gail Bendixen, (907) 271-2809, at least 5 working days prior to the meeting date.

Dated: November 27, 2007.
Tracey L. Thompson,
Acting Director, Office of Sustainable Fisheries, National Marine Fisheries Service.

[FR Doc. E7-23206 Filed 11-29-07; 8:45 am]

BILLING CODE 3510-22-S